DEPARTMENT OF ENERGY

10 CFR Part 810

RIN 1994-AA02

Assistance to Foreign Atomic Energy Activities

AGENCY: National Nuclear Security Administration (NNSA), Department of Energy (DOE).

ACTION: Notice of re-opening of the comment period.

SUMMARY: On August 2, 2013, DOE published a supplemental notice of proposed rulemaking (SNOPR) concerning its regulations governing Assistance to Foreign Atomic Energy Activities. The comment period on the SNOPR was originally to close on October 31, 2013, but was extended until November 30, 2013. By this notice, DOE is re-opening the comment period on the SNOPR. The comment period will close on April 2, 2014. The re-opening of the comment period will provide for additional time for the public to review and comment on the proposed regulation and other comments received. The Department looks forward to hearing feedback from the public on the proposed regulations.

DATES: The supplemental notice of proposed rulemaking published August 2, 2013 (78 FR 46829), is reopened. DOE will accept written comments submitted electronically or postmarked on or before April 2, 2014.

ADDRESSES: Interested persons may submit comments on the SNOPR, identified by RIN 1994-AA02, by any of the following methods:

1. Federal Rulemaking Portal: http://www.regulations.gov/#!docketDetail;D=DOE-HQ-2011-0035 . Follow the instructions for submitting comments.

2. Email: Part810.SNOPR@hq.doe.gov. Include RIN 1994-AA02 in the subject line of the message.

3. Mail: Richard Goorevich, Senior Policy Advisor, Office of Nonproliferation and International Security, NA-24, National Nuclear Security Administration, Department of Energy, 1000 Independence Avenue SW., Washington, DC 20585.

Due to potential delays in DOE's receipt and processing of mail sent through the U.S. Postal Service, DOE encourages responders to submit comments electronically to ensure timely receipt.

All submissions must include the RIN for this rulemaking, RIN 1994-AA02. For additional information and instructions on submitting comments, see the “Public Comment Procedures” heading of the SUPPLEMENTARY INFORMATION section of the SNOPR.

FOR FURTHER INFORMATION CONTACT: Richard Goorevich, Senior Policy Advisor, Office of Nonproliferation and International Security, NA-24, National Nuclear Security Administration, Department of Energy, 1000 Independence Avenue SW., Washington, DC 20585, telephone 202-586-0589; Janet Barsy, Office of the General Counsel, GC-53, Department of Energy, 1000 Independence Avenue SW., Washington, DC 20585, telephone 202-586-3429; or Katie Strangis, National Nuclear Security Administration, 1000 Independence Avenue SW., Washington, DC 20585, telephone 202-586-8623.

SUPPLEMENTARY INFORMATION:

I. Background

II. Extension of Comment Period

I. Background

On September 7, 2011, DOE issued a notice of proposed rulemaking (NOPR) to propose the first comprehensive updating of regulations concerning Assistance to Foreign Atomic Energy Activities since 1986. (76 FR 55278) The NOPR reflected a need to make the regulations consistent with current global civil nuclear trade practices and nonproliferation norms, and to update the activities and technologies subject to the Secretary of Energy's specific authorization and DOE reporting requirements. It also identified destinations with respect to which most assistance would be generally authorized and destinations that would require a specific authorization by the Secretary of Energy. After careful consideration of all comments received, DOE published a SNOPR on August 2, 2013, to respond to those comments, propose new or revised rule changes, and afford interested parties a second opportunity to comment. (78 FR 46829). The comment period on the SNOPR was originally to close on October 31, 2013, but was extended until November 30, 2013. By this notice, DOE is reopening the comment period on the SNOPR. The comment period will close on April 2, 2014.

II. Extension of Comment Period

Due to the nature of the comments received, including a recommendation to withdraw the SNOPR, the Department has determined to re-open the comment period to April 2, 2014, as a means to afford additional time for the public to review and comment on the SNOPR and comments of other parties. Any comment received between November 30, 2013 and the publication of today's notice will be deemed timely, filed, and considered to be part of the record and will be considered together with all comments submitted within the re-opened comment period.

As provided in the SNOPR, if you submit information that you believe to be exempt by law from public disclosure, you should submit one complete copy, as well as one copy from which the information claimed to be exempt by law from public disclosure has been deleted. DOE is responsible for the final determination with regard to disclosure or nondisclosure of the information and for treating it accordingly under the DOE Freedom of Information regulations at 10 CFR 1004.11.

Issued in Washington, DC, on March 18, 2014.
Richard Goorevich,
Senior Policy Advisor.

[FR Doc. 2014-06547 Filed 3-24-14; 8:45 am]

BILLING CODE 6450-01-P